DEPARTMENT OF LABOR

Occupational Safety and Health Administration

29 CFR Parts 1910, 1915, 1917, 1918, and 1926

[Docket No. OSHA-2025-0025]

RIN 1218-AD68

Methylenedianiline

AGENCY: Occupational Safety and Health Administration (OSHA), Labor.

ACTION: Proposed rule; extension of comment period.

SUMMARY: OSHA is extending the period for submitting comments by 60 days to allow stakeholders interested in the Notice of Proposed Rulemaking (NPRM) on Methylenedianiline additional time to review the NPRM and collect information and data necessary for comment.

DATES: The comment period for the NPRM that was published at 90 FR 28325 on July 1, 2025, is extended. Comments on any aspect of the NPRM must be submitted by November 1, 2025.

ADDRESSES:

Written comments: You may submit comments and attachments, identified by Docket No. OSHA-2025-0025, electronically at www.regulations.gov, which is the Federal e-Rulemaking Portal. Follow the online instructions for making electronic submissions. The Federal e-Rulemaking Portal at www.regulations.gov is the only way to submit comments on this NPRM.

Instructions: All submissions must include the agency's name and the docket number for this rulemaking (Docket No. OSHA-2025-0025). All comments, including any personal information you provide, are placed in the public docket without change and may be made available online at www.regulations.gov. Therefore, OSHA cautions commenters about submitting information they do not want made available to the public or submitting materials that contain personal information (either about themselves or others), such as Social Security Numbers and birthdates.

Docket: To read or download comments or other material in the docket, go to Docket No. OSHA-2025-0025 at www.regulations.gov. All comments and submissions are listed in the www.regulations.gov index; however, some information (e.g., copyrighted material) is not publicly available to read or download through that website. All comments and submissions, including copyrighted material, are available for inspection through the OSHA Docket Office. Documents submitted to the docket by OSHA or stakeholders are assigned document identification numbers (Document ID) for easy identification and retrieval. The full Document ID is the docket number plus a unique four-digit code. OSHA is identifying supporting information in this NPRM by author name and publication year, when appropriate. This information can be used to search for a supporting document in the docket at www.regulations.gov. Contact the OSHA Docket Office at 202-693-2350 (TTY number: 877-889-5627) for assistance in locating docket submissions.

FOR FURTHER INFORMATION CONTACT:

Press inquiries: Contact Frank Meilinger, Director, Office of Communications, U.S. Department of Labor; telephone: (202) 693-1999; email: meilinger.francis2@dol.gov.

General and technical information: Andrew Levinson, Director, OSHA Directorate of Standards and Guidance, Occupational Safety and Health Administration; telephone: (202) 693-1950; email: osha.dsg@dol.gov.

SUPPLEMENTARY INFORMATION: On July 1, 2025, OSHA issued an NPRM to revise the agency's Methylenedianiline standards. The public comment period for the NPRM was to close on September 2, 2025, 60 days after publication of the NPRM. In response to requests from stakeholders, OSHA is extending the public comment period for 60 days, until November 1, 2025. OSHA believes a 60-day extension is sufficient and appropriate in order to balance the agency's need for stakeholder input with the agency's desire to proceed with the rulemaking in a timely manner.

Additionally, in response to commenter requests, OSHA will hold an informal public hearing on this proposal. The agency will publish a separate notice at a future date to announce the details of the public hearing.

Authority and Signature

Amanda Laihow, Acting Assistant Secretary of Labor for Occupational Safety and Health, U.S. Department of Labor, 200 Constitution Avenue NW, Washington, DC 20210, authorized the preparation of this document pursuant to the following authorities: Sections 4, 6, and 8 of the Occupational Safety and Health Act of 1970 (29 U.S.C. 653, 655, 657); Secretary of Labor's Order 7-2025 (90 FR 27878 (June 30, 2025)); 29 CFR part 1911; and 5 U.S.C. 553.

Signed at Washington, DC, on August 13, 2025.
Amanda Laihow,
Acting Assistant Secretary of Labor for Occupational Safety and Health.

[FR Doc. 2025-15897 Filed 8-19-25; 8:45 am]

BILLING CODE 4510-26-P